DEPARTMENT OF COMMERCE

International Trade Administration

[A-570-851]

Certain Preserved Mushrooms From the People's Republic of China; Extension of Time Limit for Final Results of Antidumping Duty Administrative Review

AGENCY: Import Administration, International Trade Administration, Department of Commerce.

DATES: Effective Date: July 13, 2011.

FOR FURTHER INFORMATION CONTACT: Scott Hoefke or Fred Baker, AD/CVD Operations, Office 7, Import Administration, International Trade Administration, U.S. Department of Commerce, 14th Street and Constitution Avenue NW., Washington, DC 20230; telephone: (202) 482-4947 or (202) 482-2924, respectively.

SUPPLEMENTARY INFORMATION:

Background

On March 8, 2011, the Department of Commerce (Department) published in the Federal Register the preliminary results of the administrative review of the antidumping duty order on certain preserved mushrooms from the People's Republic of China, covering the period February 1, 2009, to January 31, 2010. See Certain Preserved Mushrooms From the People's Republic of China: Preliminary Results of Antidumping Duty Administrative Review, Rescission in Part, and Intent To Rescind in Part, 76 FR 12704 (March 8, 2011) (Preliminary Results). The current deadline for the final results of this review is July 6, 2011.

Extension of Time Limits for Final Results of Review

Section 751(a)(3)(A) of the Tariff Act of 1930, as amended (the Act), requires that the Department complete the final results of an administrative review within 120 days after the date on which notice of the preliminary results was published in the Federal Register. However, if it is not practicable to complete the review within this time period, section 751(a)(3)(A) of the Act allows the Department to extend the time limit for the final results to a maximum of 180 days after the publication date of the preliminary results.

The Department finds that it is not practicable to complete the final results of this review within the original time frame because the Department continues to require additional time to analyze issues raised in recent case and rebuttal briefs. Thus, the Department finds it is not practicable to complete this review within the original time limit (i.e., July 6, 2011). Accordingly, the Department is extending the time limit for completion of the final results of this administrative review by 60 days (i.e., until September 4, 2011), in accordance with section 751(a)(3)(A) of the Act and 19 CFR 351.213(h)(2). However, because September 4, 2011, falls on a weekend, and the following day is a federal holiday, the time limit for completion of our final results will be September 6, 2011.

This extension is issued and published in accordance with sections 751(a)(3)(A) and 777(i) of the Act.

Dated: July 6, 2011.
Christian Marsh,
Deputy Assistant Secretary for Antidumping and Countervailing Duty Operations.

[FR Doc. 2011-17634 Filed 7-12-11; 8:45 am]

BILLING CODE 3510-DS-P